DEPARTMENT OF COMMERCE

National Oceanic and Atmospheric Administration

RIN 0648-XD684

North Pacific Fishery Management Council; Public Meeting

AGENCY: National Marine Fisheries Service (NMFS), National Oceanic and Atmospheric Administration (NOAA), Commerce.

ACTION: Notice of public meetings.

SUMMARY: The North Pacific Fishery Management Council (Council) Fixed Gear Electronic Monitoring (EM) workgroup will meet in Anchorage, AK.

DATES: The meetings will be held January 12-13, 2015, from 1 p.m. to 5 p.m. and 8 a.m. to 12 p.m., respectively.

ADDRESSES: The meetings will be held at the Hilton Hotel, Aspen/Spruce Room, 500 W 3rd Avenue, Anchorage, AK.

Council address: North Pacific Fishery Management Council, 605 W. 4th Ave., Suite 306, Anchorage, AK 99501-2252.

FOR FURTHER INFORMATION CONTACT: Diana Evans, Council staff; telephone: (907) 271-2809.

SUPPLEMENTARY INFORMATION: The agenda is to finalize the 2015 EM Cooperative Research Plan and discuss funding and timelines for the research plan, pre-implementation, and the Council analysis to integrate EM into the observer program.

The Agenda is subject to change, and the latest version will be posted at http://www.npfmc.org/.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: December 22, 2014.
Tracey L. Thompson,
Acting Deputy Director, Office of Sustainable Fisheries, National Marine Fisheries Service.

[FR Doc. 2014-30315 Filed 12-24-14; 8:45 am]

BILLING CODE 3510-22-P